SURFACE TRANSPORTATION BOARD

[Docket No. EP 290 (Sub-No. 5) (2020-4)]

Quarterly Rail Cost Adjustment Factor

AGENCY: Surface Transportation Board.

ACTION: Approval of rail cost adjustment factor.

SUMMARY: The Board approves the fourth quarter 2020 Rail Cost Adjustment Factor (RCAF) and cost index filed by the Association of American Railroads. The fourth quarter 2020 RCAF (Unadjusted) is 0.941. The fourth quarter 2020 RCAF (Adjusted) is 0.394. The fourth quarter 2020 RCAF-5 is 0.372.

DATES: Applicable Date: October 1, 2020.

FOR FURTHER INFORMATION CONTACT: Pedro Ramirez at (202) 245-0333. Assistance for the hearing impaired is available through Federal Relay Service at (800) 877-8339.

SUPPLEMENTARY INFORMATION: The Board's decision is posted at http://www.stb.gov. Copies of the decision may be purchased by contacting the Office of Public Assistance, Governmental Affairs, and Compliance at (202) 245-0238.

Decided: September 16, 2020.
By the Board, Board Members Begeman, Fuchs, and Oberman.
Tammy Lowery,
Clearance Clerk.

[FR Doc. 2020-20939 Filed 9-22-20; 8:45 am]

BILLING CODE 4915-01-P